FEDERAL COMMUNICATIONS COMMISSION

Advisory Committee on Diversity for Communications in the Digital Age

AGENCY: Federal Communications Commission.

ACTION: Notice of public meeting.

SUMMARY: In accordance with the Federal Advisory Committee Act, Public Law 92-463, as amended, this notice advises interested persons that the Advisory Committee on Diversity for Communications in the Digital Age (“Diversity Committee” or “the Committee”) will be holding a public meeting.

DATES: Tuesday, April 25, 2006, from 2 p.m. until 4 p.m. EDT.

ADDRESSES: The meeting, which will be held telephonically, will be open to the public via a “listen only” telephone bridge. The number of lines is limited and will be available on a “first-come, first-served” basis. Members of the public interested in attending by telephone should call (800) 347-3350 and identify Diego Ruiz as the conference call's chairman.

FOR FURTHER INFORMATION CONTACT: Diego Ruiz, Designated Federal Officer of the Diversity Committee, 445 12th St. SW., Washington, DC 20554; telephone (202) 418-2034, e-mail diego.ruiz@fcc.gov.

SUPPLEMENTARY INFORMATION: The Diversity Committee was established by the Federal Communications Commission to advise it on promoting diversity of participation in the communications sector.

The purpose of the meeting is to discuss the Federal Communications Commission's consideration of new rules that could change the Commission's implementation of Section 309(j) of the Communications Act, which requires the Commission to ensure, inter alia, that small businesses and businesses owned by members of minority groups and women are given the opportunity to participate in the provision of spectrum-based services. The Commission is unable to provide the full 15 calendar day notice for this public meeting because it is considering imminent action on the matter. Delay could result in the inability of the Commission to receive the input of the Diversity Committee on this important matter. At this meeting, the Diversity Committee will discuss and develop input on new rules the Commission is considering regarding Section 309(j) of the Communications Act, also commonly referred to as the “Designated Entity” rules. Copies of materials to be used during the meeting will be posted on the Meetings and Documents section of the Committee's Web site at http://www.fcc.gov/DiversityFAC/ in advance of the meeting.

The public may submit written comments to the Council's designated Federal Officer before the meeting.

Federal Communications Commission.
Marlene Dortch,
Secretary.

[FR Doc. 06-3818 Filed 4-19-06; 8:45 am]

BILLING CODE 6712-01-P